DEPARTMENT OF HOMELAND SECURITY

Office of the Secretary

6 CFR Chapter I

Temporary Extension of Applicability of Regulations Governing Conduct on Federal Property

AGENCY: Office of the Secretary, DHS.

ACTION: Notification of temporary extension of the applicability of regulations.

SUMMARY: The Secretary of Homeland Security, pursuant to the Homeland Security Act of 2002, has temporarily extended the applicability and enforcement of certain regulations governing conduct on Federal property that is under the administrative jurisdiction and control of U.S. Customs and Border Protection (CBP) along the southwest border. This temporary administrative extension enables DHS to protect and secure Federal property along the southwest border within the control of CBP's San Diego Field Office, Tucson Field Office, Laredo Field Office and El Paso Field Office, and to carry out DHS's statutory obligations to protect and secure the nation's borders. The Federal property subject to this notice is limited to the specific geographic area within the administrative control of CBP along the length of the U.S. border with Mexico.

DATES: Pursuant to 40 U.S.C. 1315(d), the extension began on November 17, 2018 and will continue until May 31, 2019.

FOR FURTHER INFORMATION CONTACT: Joshua A. Vayer, 703-235-6082, joshua.s.vayer@hq.dhs.gov.

SUPPLEMENTARY INFORMATION:

Background

Pursuant to section 1706 of the Homeland Security Act of 2002, Public Law 107-296, 116 Stat. 2135 (Nov. 25, 2002), as codified at 40 U.S.C. 1315, the Secretary of Homeland Security is responsible for protecting the buildings, grounds, and property owned, occupied, or secured by the Federal government (including any agency, instrumentality, or wholly owned or mixed ownership corporation thereof) and the persons on the property. To carry out this mandate, the Department is authorized to enforce the applicable Federal regulations for the protection of persons and property set forth in 41 CFR part 102-74, subpart C.¹ These regulations govern conduct on Federal property and set forth the relevant criminal penalties. Although these regulations apply to all property under the authority of the General Services Administration and to all person entering in or on such property,² the Secretary of Homeland Security is authorized pursuant to 40 U.S.C. 1315(d)(2)(A) to extend the applicability of these regulations to any property owned or occupied by the Federal government and to enforce them on such property.

¹ Although these regulations were issued prior to the Homeland Security Act, per section 1512 of the Act, these regulations remain the relevant regulations for purposes of the protection and administration of property owned or occupied by the Federal government.

² See 41 CFR 102-74.365.

Temporary Administrative Extension of Applicability of Regulations Governing Conduct on Federal Property Under the Administrative Jurisdiction and Control of U.S. Customs and Border Protection Along the Southwest Border

Throughout October and November 2018, a large group of Central American migrants is traveling as part of a caravan toward the Southwest Border of the United States. Acts of violence against immigration security services have been reported. As part of Department-wide efforts to mitigate security challenges which may arise as the migrants approach the Southwest Border of the United States, including the possibility of access to Federal property by unauthorized individuals, planning for an appropriate response is warranted. Specifically, this action will afford Federal law enforcement officers a wide range of enforcement tools to enforce Federal rules pertaining to individuals' conduct on the Federal property. The affected Federal property is along the Southwest Border of the United States and within the control of CBP's San Diego Field Office, Tucson Field Office, Laredo Field Office, and El Paso Field Office including but not limited to ports of entry, access roads, barriers, parking structures, and buildings temporarily erected to support processing of the large group of migrants. The Federal property that is subject to this notice is limited to the specific geographic area within the U.S. Border with Mexico. Specifically, I temporarily extended the applicability, allowing the enforcement, of the regulations in 41 CFR part 102-74, subpart C, for the protection and administration of property owned or occupied by the Federal Government and persons on the above-specified property along the Southwest Border of the United States.

The regulations in 41 CFR part 102-74, subpart C, will remain applicable and enforceable at these locations along the Southwest Border of the United States for six months after the date of my signature of this notice.

Dated: November 17, 2018.
Kirstjen M. Nielsen,
Secretary of Homeland Security.

[FR Doc. 2018-26812 Filed 12-11-18; 8:45 am]

BILLING CODE 9110-9P-P